DEPARTMENT OF COMMERCE

International Trade Administration

[A-570-943]

Certain Oil Country Tubular Goods From the People's Republic of China; Notice of Court Decision Not in Harmony With Final Results of Administrative Review and Notice of Amended Final Results of Administrative Review Pursuant to Court Decision

AGENCY: Enforcement and Compliance, International Trade Administration, Department of Commerce.

SUMMARY: On August 28, 2015, the United States Court of International Trade (“CIT”) issued its final judgment ¹ sustaining the Department of Commerce's (the “Department”) redetermination ² issued pursuant to the CIT's remand order in American Tubular Products, LLC v. United States, Ct. No. 13-00029, Slip Op. 14-116 (CIT September 26, 2014) (“Remand Order”), with respect to the Department's amended final results ³ of the 2010-2011 antidumping duty administrative review of certain oil country tubular goods (“OCTG”) from the People's Republic of China. Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's amended final results of review and is amending the AR 1 Final Results with respect to the margin determined for Jiangsu Chengde Steel Tube Share Co., Ltd. (“Chengde”), an exporter and producer of subject merchandise.

¹ See American Tubular Products., LLC v. United States, Court No. 13-00029, Slip Op. 15-98 (CIT August 28, 2015) (“ATP”).

² See Final Results of Redetermination Pursuant to Court Remand, American Tubular Products, LLC v. United States, Court No. 13-00029 (January 28, 2015) (“Remand Redetermination”).

³ See Certain Oil Country Tubular Goods From the People's Republic of China: Final Results of Antidumping Duty Administrative Review; 2010-2011, 77 FR 74644 (December 17, 2012), as amended by, Certain Oil Country Tubular Goods From the People's Republic of China: Amended Final Results of Antidumping Duty Administrative Review; 2010-2011, 78 FR 9033 (February 7, 2013) (collectively, “AR 1 Final Results”).

DATES: Effective Date: September 7, 2015.

FOR FURTHER INFORMATION CONTACT: Paul Stolz, Office III, Enforcement and Compliance, International Trade Administration, U.S. Department of Commerce, 14th Street and Constitution Avenue NW., Washington, DC 20230; telephone: (202) 482-4474.

SUPPLEMENTARY INFORMATION: Subsequent to the publication of the AR 1 Final Results, Chengde filed a complaint with the CIT challenging aspects of the methodology used to determine its margin in the AR 1 Final Results.

On September 26, 2014, the CIT issued the Remand Order, instructing the Department to re-visit its decision to value most of Chengde's billet as alloy steel in the underlying review. Specifically with respect to Chengde's billets, the Court instructed the Department to: (1) Reevaluate the chemical composition of OCTG sold in certain contracts, (2) explain whether Chengde's mill test certificates prove the chemical properties of OCTG not specifically covered by those certificates, (3) assess whether Chengde's entry summary as provided in American Tubular Products, LLC's application to receive information under administrative protective order proves that the OCTG in one contract was comprised of carbon steel, and (4) recalculate the percentage of Chengde's steel billets that were alloy steel or carbon steel in accordance with this analysis.⁴ In addition, at the Department's request, the CIT remanded the additional issue of the surrogate value used to value carbon steel billets to reconsider whether it is aberrational.⁵

⁴ See Remand Order at 14.

⁵ Id. at 16-17.

On January 28, 2015, the Department issued its Remand Redetermination. Consistent with the CIT's instructions in the Remand Order, the Department recalculated the total quantity of carbon steel billets consumed by Chengde to produce subject merchandise during the period of review and explained why the surrogate value used for carbon steel billets in the AR 1 Final Results was not aberrational.⁶

⁶ See Remand Redetermination at 2.

On August 28, 2015, the CIT issued its decision in ATP, in which it sustained the Remand Redetermination, finding that the Department's decision to use an alloy-carbon average as a surrogate for some of Chengde's billet inputs and reliance on Indonesian import data to value high carbon steel was supported by substantial evidence.⁷

⁷ See ATP at 11-21.

Timken Notice

In its decision in Timken, 893 F.2d at 341, as clarified by Diamond Sawblades, the CAFC held that, pursuant to section 516A(e) of the Tariff Act of 1930, as amended (“the Act”), the Department must publish a notice of a court decision that is not “in harmony” with a Department determination and must suspend liquidation of entries pending a “conclusive” court decision. The CIT's August 28, 2015, judgment in this case constitutes a final decision of that court that is not in harmony with the Department's AR 1 Final Results. This notice is published in fulfillment of the publication requirements of Timken.

Amended Final Results

Because there is now a final court decision with respect to this case, the Department is amending the AR 1 Final Results with respect to Chengde's weighted-average dumping margin, effective September 7, 2015. The revised dumping margin is as follows:

Exporter | Percent margin
Jiangsu Chengde Steel Tube Share Co., Ltd. | 137.62

The Department will continue the suspension of liquidation of the entries at issue pending expiration of the period of appeal or, if appealed, pending a final and conclusive court decision. In the event the CIT's ruling is not appealed or, if appealed, upheld by the CAFC, the Department will instruct U.S. Customs and Border Protection (“CBP”) to liquidate entries of subject merchandise based on the revised assessment rates calculated by the Department.

Cash Deposit Requirements

Since the AR1 Final Results, the Department has not established a new cash deposit rate for Chengde. As a result, in accordance with section 751(a)(1) of the Act, the Department will instruct CBP to collect a cash deposit of 137.62 percent for entries of subject merchandise exported by Chengde, effective September 7, 2015.

Notification to Interested Parties

This notice is issued and published in accordance with sections 516A(e), 751(a)(1), and 777(i)(1) of the Act.

Dated: September 17, 2015.
Ronald K. Lorentzen,
Acting Assistant Secretary for Enforcement and Compliance.

[FR Doc. 2015-24327 Filed 9-24-15; 8:45 am]

BILLING CODE P